ENVIRONMENTAL PROTECTION AGENCY

40 CFR Part 52

[EPA-R04-OAR-2019-0195; FRL-10008-41-Region 4]

Air Plan Approval; GA; Revision to I/M Program

AGENCY: Environmental Protection Agency (EPA).

ACTION: Proposed rule.

SUMMARY: The Environmental Protection Agency (EPA) is proposing to approve a State Implementation Plan (SIP) revision submitted by the State of Georgia through a letter dated March 15, 2019, through the Georgia Department of Natural Resources (GA DNR), Environmental Protection Division (GA EPD). The proposed changes are to remove obsolete references, clarify the State's inspection and maintenance (I/M) requirements, and update terminology, including to reflect advances in technology. EPA has evaluated the SIP revision and has preliminarily determined the changes will not impact emissions under the Georgia I/M program. EPA is proposing to conclude that approval of the SIP revision will not interfere with attainment or maintenance of any national ambient air quality standard (NAAQS) or with any other applicable requirement of the Clean Air Act (CAA or Act). Therefore, EPA is proposing to determine that Georgia's March 15, 2019, SIP revision is consistent with the applicable provisions of the CAA.

DATES: Written comments must be received on or before June 15, 2020.

ADDRESSES: Submit your comments, identified by Docket ID No. EPA-R04-OAR-2019-0195 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Kelly Sheckler, Air Regulatory Management Section, Air Planning and Implementation Branch, Air and Radiation Division, U.S. Environmental Protection Agency, Region 4, 61 Forsyth Street SW, Atlanta, Georgia 30303-8960. The telephone number is (404) 562-9222. Ms. Sheckler can also be reached via electronic mail at sheckler.kelly@epa.gov.

SUPPLEMENTARY INFORMATION:

I. What is the background of Georgia's SIP-approved I/M program?

The CAA requires certain areas that are designated as moderate, serious, severe, or extreme ozone nonattainment areas to establish a motor vehicle I/M program to ensure regular monitoring of gasoline fueled motor vehicle emissions by requiring that vehicles undergo periodic emissions testing. See CAA sections 182(b)(4), (c)(3). This emissions testing ensures that vehicles are well maintained and operating as designed, and do not exceed established vehicle pollutant limits. A basic I/M program is required for certain moderate areas and an enhanced I/M program is required for certain serious, severe, or extreme ozone nonattainment areas.

In 1991, EPA classified a 13-county area in and around the Atlanta, Georgia, metropolitan area as a serious ozone nonattainment area for the 1990 1-hour ozone NAAQS, triggering the requirement for the State to establish an enhanced I/M program for this area.¹ In 1996, Georgia submitted its enhanced I/M program to EPA for incorporation into the SIP. EPA granted interim approval of the State's program. See 62 FR 42916 (August 11, 1997). Full approval was subsequently granted. See 65 FR 4133 (January 26, 2000). Since that time, EPA has approved several SIP revisions regarding the State's I/M program.

¹ On November 6, 1991, EPA designated and classified the following counties in and around the Atlanta, Georgia, metropolitan area as a serious ozone nonattainment area for the 1-hour ozone NAAQS: Cherokee, Clayton, Cobb, Coweta, DeKalb, Douglas, Fayette, Forsyth, Fulton, Gwinnett, Henry, Paulding, and Rockdale. See 56 FR 56694.

In 1997, EPA established an 8-hour ozone NAAQS and subsequently designated areas. On April 30, 2004 (69 FR 23858), EPA designated a 20-county area, in and around metropolitan Atlanta, as a marginal ozone nonattainment area for the 1997 8-hour ozone NAAQS.² EPA reclassified these counties as a moderate ozone nonattainment area on March 6, 2008 (73 FR 12013), because the area failed to attain the 1997 8-hour ozone NAAQS by the required attainment date of June 15, 2007. Subsequently, the area attained the 1997 8-hour ozone standard, and on December 2, 2013 (78 FR 72040), EPA redesignated the counties to attainment for the 1997 8-hour ozone NAAQS.

² The nonattainment area for the 1997 8-hour ozone standard consisted of the following counties: Barrow, Bartow, Carroll, Cherokee, Clayton, Cobb, Coweta, DeKalb, Douglas, Fayette, Forsyth, Fulton, Gwinnett, Hall, Henry, Newton, Paulding, Rockdale, Spalding, and Walton.

On March 12, 2008, EPA revised the 8-hour ozone NAAQS. See 73 FR 16436 (March 27, 2008). EPA designated a 15-county area in and around metropolitan Atlanta as a marginal ozone nonattainment area for the 2008 8-hour ozone NAAQS on April 30, 2012 (effective July 20, 2012).³ See 77 FR 30088 (May 21, 2012). EPA reclassified these counties as a moderate ozone nonattainment area on April 11, 2016, because the area failed to attain the 2008 8-hour ozone NAAQS by the required attainment date of July 20, 2015. See 81 FR 26697 (May 4, 2016). Subsequently, the area attained the 2008 8-hour ozone standard and EPA redesignated the counties to attainment for the 2008 8-hour ozone NAAQS. See 40 CFR 25523 (June 2, 2017).

³ The nonattainment area for the 2008 8-hour ozone standard consisted of the following counties: Bartow, Cherokee, Clayton, Cobb, Coweta, DeKalb, Douglas, Fayette, Forsyth, Fulton, Gwinnett, Henry, Newton, Paulding, and Rockdale.

On October 1, 2015, EPA again revised the 8-hour ozone NAAQS to 0.070 parts per million (ppm). See 80 FR 16436 (October 26, 2015). EPA designated a 7-county area in and around metropolitan Atlanta as a marginal ozone nonattainment area for the 2015 8-hour ozone NAAQS on April 30, 2018 (effective August 3, 2018).⁴ The attainment date is August 3, 2021.

⁴ The nonattainment area for the 2015 8-hour ozone standard consisted of the following counties: Bartow, Clayton, Cobb, DeKalb, Fulton, Gwinnett, and Henry.

II. What is being proposed?

EPA is proposing to approve changes to the Georgia SIP that were provided to EPA under a cover letter dated March 15, 2019.⁵ Specifically, GA EPD provided three different changes to Georgia's Rule 391-3-20—Enhanced Inspection and Maintenance (“Georgia I/M Regulation”), which were adopted by the GA DNR Board of Directors and became state-effective on November 22, 2016, March 28, 2018, and February 17, 2019.⁶ With respect to 391-3-20-.06, GA EPD provided additional changes that the GA DNR Board adopted on January 31, 2014 and became state-effective on June 19, 2014.

⁵ EPA officially received Georgia's I/M SIP revision request on March 21, 2019.

⁶ Changes adopted by the GA DNR Board on October 26, 2016, became state-effective on November 22, 2016; adopted on February 28, 2018, became state-effective on March 28, 2018; and adopted on January 16, 2019, became state-effective on February 17, 2019.

The proposed changes are to update the SIP to remove obsolete references, clarify the State's I/M requirements, and update terminology, including to reflect advances in technology. These proposed changes include adding, removing, and revising definitions applicable to the Georgia I/M Regulation. EPA is proposing to determine that the changes will not impact emissions. Additional detail on the changes and EPA's analysis is contained in Section III.

III. State's Submittal and EPA's Analysis

Georgia's March 15, 2019, SIP revision seeks to modify the following sections of the Georgia's SIP-approved I/M Regulation: Rule 391-3-20-.01, “Definitions;” Rule 391-3-20-.03, “Covered Vehicles: Exemptions;” Rule 391-3-20-.04, “Emission Inspection Procedures;” Rule 391-3-20-.05, “Emission Standards;” Rule 391-3-20-.06, “Testing of Exhaust Emissions by Remote Sensing Technology or Other Means;” Rule 391-3-20-.07, “Inspection Equipment System Specification;” Rule 391-3-20-.09, “Inspection Station Requirements;” Rule 391-3-20-.10, “Certificates of Authorization;” Rule 391-3-20-.11, “Inspector Qualifications and Certification;” Rule 391-3-20-.13, “Certificate of Emission Inspection;” Rule 391-3-20-.15, “Repairs and Retests;” Rule 391-3-20-.17, “Waivers;” and Rule 391-3-20-.18, “Sale of Vehicles.” EPA's analysis of these changes is provided in sections III.A through III.N.

A. Rule 391-3-20-.01, “Definitions”

Georgia's March 15, 2019, SIP revision includes the following: (1) Changes to the definitions of Acceleration Simulation Mode 2525/5015 exhaust emission test, Calibration, DLC, E-Certs, Georgia Analyzer System, Grandfathered Vehicle, Light Duty Vehicle, Management Contractor, Station Owner, and 2-speed idle (TSI) test; (2) additions of definitions for Certificate of Authorization, Certificate of Emissions Inspection, Emissions Inspector Certification Training Program Manual, Georgia Analyzer System Hardware and Software Specifications, Georgia's Clean Air Force, Inspection Term, Responsible Motor Vehicle, Revolutions per Minute, and State-Certified Emissions Inspection Station; and (3) removal of the terms I/M Inspection Procedures Manual, I/M Test Manual, and State Inspection Program. EPA has evaluated the changes to the definitions and has made the preliminary determination that the changes are to clarify the requirements, to delete obsolete references, and to add definitions. EPA's analysis of each of these changes is provided in further detail in the following discussion.

1. Revised Definitions

The following provides details and EPA's analysis of definition rule provisions related to the Georgia I/M program that were revised by Georgia, and for which the State has requested that EPA incorporate into the Georgia SIP.

a. Acceleration Simulation Mode 2525/5015 Exhaust Emission Test

The term “Acceleration Simulation Mode 2525/5015 exhaust emission test” is revised to remove references to a chassis dynamometer and the I/M Inspection Procedures Manual, which are obsolete.⁷ The rule now provides specific language on testing requirements by identifying the manner in which 2525 and 5015 tests are to be run (25 percent engine load at 25 miles per hour and 50 percent engine load at 15 miles per hour, respectively). EPA has made the preliminary determination that these changes are SIP strengthening because the edits provide additional clarity within the SIP and will not impact emissions. Therefore, EPA is proposing to approve this change.

⁷ See sections III.A.2.c. and 3.a. of this document for further information about the I/M Inspection Procedures Manual and the Emissions Inspector Certification Training Program Manual, respectively.

b. Calibration

The term of “Calibration” contains a minor revision to more clearly explain the test values of the GAS emissions bench. EPA has made the preliminary determination that this change will not impact emissions. Therefore, EPA is proposing to approve this change.

c. DLC

The term “DLC” adds the word “diagnostic” to the definition to include both data and the diagnostics. This addition is consistent with the outputs the tests provides. EPA has made the preliminary determination that this minor change will not impact emissions. Therefore, EPA is proposing to approve this change.

d. E-Certs

The term “E-Certs” adds the word blank to electronic certification of emission inspection, to avoid confusion that they are not prepopulated, and adds wording that these forms must be purchased by the official emission inspection station preforming the test. EPA has made the preliminary determination that this minor change will not impact emissions. Therefore, EPA is proposing to approve this change.

e. Georgia Analyzer System

The definition of “Georgia Analyzer System” clarifies that this test system must be approved by GA EPD. EPA has made the preliminary determination that this minor change will not impact emissions. Therefore, EPA is proposing to approve this change.

f. Grandfathered Vehicle

The term “Grandfathered Vehicle” adds language to clarify that vehicles manufactured outside of the United States are subject to the Georgia Motor Vehicle Emission Inspection and Maintenance Act. EPA has made the preliminary determination that this minor change will not impact emissions. Therefore, EPA is proposing to approve this change.

g. Light Duty Vehicle

The term light duty vehicle is revised to specify that such vehicles have a gross vehicle weight rating (“GVWR”) 8,500 pounds or less. This change is intended to avoid confusion as to which vehicles are considered light duty and revises the term to match the federal vehicle classification and 40 CFR 51.356. EPA has made the preliminary determination that this change is consistent with EPA's inspection and maintenance regulations at 40 CFR 51 subpart S and will not impact emissions. Therefore, EPA is proposing to approve this change.

h. Management Contractor

The term “Management Contractor” is revised to remove the word “certain” before the other functions that the management contractor performs for the state I/M program. EPA has made the preliminary determination that this minor change will not impact emissions. Therefore, EPA is proposing to approve this change.

i. Station Owner

The term “Station Owner” is revised to specify that the entity is the owner or has control of the daily operation of an inspection station and is not the person preforming the actual emissions test. EPA notes that the person certified to perform emissions is defined as “Inspector.” EPA has made the preliminary determination that this change will not impact emissions. Therefore, EPA is proposing to approve this change.

j. 2-Speed Idle (TSI) Test

The term “2-speed idle (TSI)” test is revised to remove a reference to the I/M Inspection Procedures Manual and instead provide specific language on the testing requirement by describing that the TSI test is run at idle at revolutions per minute (RPM) speed and higher RPM speed as determined by the GAS Specs. EPA has made the preliminary determination that this change is SIP strengthening because the edits provide additional clarity within the SIP and will not impact emissions. EPA has made the preliminary determination that this change will not impact emissions. Therefore, EPA is proposing to approve this change.

2. Added Definitions

The following provides details and EPA's analysis of definition rule provisions related to the Georgia I/M program that were added by Georgia, and for which the State has requested that EPA incorporate into the Georgia SIP.

a. Certificate of Authorization

The term “Certificate of Authorization” is defined as a certificate issued to each station designated as an official emissions station. EPA has made the preliminary determination that this change is SIP strengthening by identifying the different types of I/M-related certificates issued by GA EPD and will not impact emissions. Therefore, EPA is proposing to approve this change.

b. Certificate of Emissions Inspection

The term “Certificate of Emissions Inspection” is defined as a certificate issued to stations that have been inspected and approved by GA EPD. EPA has made the preliminary determination that this change is SIP strengthening by identifying the different types of I/M-related certificates issued by GA EPD and will not impact emissions. Therefore, EPA is proposing to approve this change.

c. Emissions Inspector Certification Training Program Manual

The definition of “Emissions Inspector Certification Training Program Manual” is added to provide that the manual is supplied to inspectors during the initial certification and replaces the I/M Inspection Procedures Manual. It also adds informational language that the manual is available on-line on the Georgia Clean Air Force (GCAF) website. EPA has made the preliminary determination that these changes will not negatively impact implementation of the I/M program and will not impact emissions. Therefore, EPA is proposing to approve this change.

d. Georgia Analyzer System Hardware and Software Specifications

The changes include the addition of the term “Georgia Analyzer System Hardware and Software Specifications” (“GAS Specs”), which provides the specifications for the hardware and software requirements of the Georgia Analyzer System (“GAS”). EPA has made the preliminary determination that this change is SIP strengthening by providing clarification as to the exact hardware and software requirements for the GAS Specs system used and will not impact emissions. Therefore, EPA is proposing to approve this change.

e. Georgia's Clean Air Force

The term “Georgia's Clean Air Force” is added, defined as the partnership between GA EPD and the Management Contractor to implement Georgia's I/M Program. This term is used throughout the program and is added to provide clarity as to who this group is and its relationship to GA EPD and the state I/M program. EPA has made the preliminary determination that this change is consistent with 40 CFR part 51 Subpart S and will not impact emissions. Therefore, EPA is proposing to approve this change.

f. Inspection Term

The term “Inspection Term” is added. This term is defined as the time period a certificate of emission inspection is considered valid. EPA notes that time period of the inspection term is provided in 391-3-20-.12. EPA has made the preliminary determination that this change provides additional clarity and will not impact emissions. Therefore, EPA is proposing to approve this change.

g. Responsible Motor Vehicle

The definition of “Responsible Motor Vehicle” is added to provide clarity as to which vehicles are subject to the requirements of the I/M program, specifically those defined as light duty vehicles or light duty trucks. The EPA has made the preliminary determination that the definition is consistent with 40 CFR part 51 subpart S (see, e.g. 40 CFR 51.351), and the change will not impact emissions. Therefore, EPA is proposing to approve this change.

h. Revolutions per Minute

The term “Revolutions per Minute” is added to explain that RPM means the number of times the crankshaft of an engine makes a complete 360 degree turn in one minute. EPA has made the preliminary determination the definition is consistent with the federal testing requirement,⁸ and the change will not impact emissions. Therefore, EPA is proposing to approve this change.

⁸ See IM240 & Evap Technical Guidance, April 2000, available at https://nepis.epa.gov/Exe/ZyPdf.cgi?Dockey=P1008F0I.pdf.

i. State-Certified Emissions Inspection Station

The term “State Certified Emissions Inspection Station” is defined as a facility that has met all the qualifications of the Georgia Air Quality Control Act (“GAQCA”) and the Georgia I/M Regulation and is certified by the GA EPD Director. EPA has made the preliminary determination that this change is SIP strengthening by providing additional clarity within the SIP, will not impact implementation of the SIP and will not impact emissions. Therefore, EPA is proposing to approve this change.

3. Removed Definitions

The following provides details and EPA's analysis of definition rule provisions related to the Georgia I/M program that the State has requested EPA remove from the Georgia SIP.

a. I/M Inspection Procedures Manual

Georgia requests removal of the term “I/M Inspection Procedures Manual” from the SIP. This term is no longer used in the Georgia I/M Regulation, as reliance in the program on hard copy manuals has been replaced with the GAS system. In addition, this manual has been replaced with the Emissions Inspector Certification Training Program Manual, which is supplied to emissions inspectors upon their initial certification. EPA has made the preliminary determination that this change will not impact emissions. Therefore, EPA is proposing to approve this change.

b. I/M Test Manual

Georgia requests removal of the term “I/M Test Manual” from the SIP. This term is no longer used in the Georgia I/M Regulation, as reliance in the program on hard copy manuals has been replaced with the GAS system. EPA has made the preliminary determination that this change will not impact emissions. Therefore, EPA is proposing to approve this change.

c. State Inspection Program

Georgia requests removal of the term “State Inspection Program” from the SIP. This term is no longer used in the Georgia I/M Regulation as 391-3-20 now references the program as the “Georgia I/M Program.” EPA has made the preliminary determination that this change will not affect implementation of the SIP and will not impact emissions. Therefore, EPA is proposing to approve this change.

B. Rule 391-3-20-.03, “Covered Vehicles: Exemptions”

Rule 391-3-20-.03, “Covered Vehicles: Exemptions,” is being amended for clarity and consistency with terminology, such as replacing “covered vehicle” with “responsible motor vehicle” to differentiate between the term defined in 391-3-20-.01 and the applicability of “Covered Vehicles” as defined in 391-3-20-.03. Further, changes to 391-3-20-.03 clarify that 391-3-20 applies to all vehicles required to be registered rather than just vehicles that are registered or are pending registration.

EPA has reviewed the changes and preliminarily determined that these changes do not impact emissions and are consistent with 40 CFR 51 subpart S. These changes are SIP strengthening by providing additional clarity to the SIP. Accordingly, EPA is proposing to approve the changes to Rule 391-3-20-.03 into Georgia's SIP.

C. Rule 391-3-20-.04, “Emission Inspection Procedures”

Rule 391-3-20-.04, “Emission Inspection Procedures,” is being amended to insert the word “initial” into the requirement for annual inspections to differentiate with re-inspections in the same year, to require inspectors to perform reinspection of the portions of a previously-failed inspection, and to revise terminology for consistency within Georgia's regulations. In addition, the changes allow inspectors to use any published traction control chart available, rather than a specific EPD approved traction control chart. EPA has reviewed these changes and preliminarily determined that they do not impact emissions and are consistent with 40 CFR part 51 subpart S. Accordingly, EPA is proposing to approve the changes to Rule 391-3-20-.04 into Georgia's SIP.

D. Rule 391-3-20-.05, “Emission Standards”

Rule 391-3-20-.05, “Emission Standards” is amended to delete an outdated reference to the emission inspector training program as well as updating references from the test manual name to the GAS. Rule 391-3-20-.05 adds clarifying language to reflect that the vehicle manufacturer programs the malfunction illumination light. EPA has made the preliminary determination that these changes provide additional clarity within the SIP, and will not impact emissions. Accordingly, EPA is proposing to approve the changes to Rule 391-3-20-.05 into Georgia's SIP.

E. Rule 391-3-20-.06, “Testing of Exhaust Emissions by Remote Sensing Technology or Other Means”

Rule 391-3-20-.06, “Testing of Exhaust Emissions by Remote Sensing Technology or Other Means,” is being amended to require on-road testing of the lesser of 0.5 percent of the vehicle population or 20,000 vehicles, and also to provide flexibility to the State as to the type of on-road testing that can be conducted.⁹ In addition, the changes replace a testing scheme for cars that are identified as high emitting vehicles by on-road testing with the testing procedures in 391-3-20-.04 and .05. Last, edits to 391-3-20-.06 remove a provision specifying that vehicle owners would be in violation of section 391-3-20 under certain circumstances.

⁹ See 1/16/2014 changes at A-5 (“[R]evised Paragraph (1) . . . provides the Division flexibility in implementing a remote sensing or alternative program as needed to meet federal requirements”), and 1/2/2019 changes at D-3 (“Paragraph (1) is being revised to include “on-road testing measures” as a type of exhaust testing and to describe remote sensing or other means of established testing. Paragraph (1) is also being revised to specify that the federal requirement for on-road testing and high emitter testing is `at least 0.5% of the vehicle population or 20,000 vehicles, whichever is less.' ”).

EPA has reviewed the changes and preliminarily determined that these changes will not impact emissions and are consistent with 40 CFR part 51 subpart S. With respect to the additional flexibility as to the type of on-road testing, the State will be obligated to conduct on-road testing on the lesser of 0.5 percent of the vehicle population or 20,000 vehicles, and identify high emitting vehicles, consistent with 40 CFR part 51 subpart S. Since high emitting vehicles must present their vehicles for emissions inspection, and—if the high emitting vehicle fails the emission inspection under 391-3-20-.04 and 391-3-20-.05—must pass a reinspection under 391-3-20-.15, EPA does not anticipate emissions increases associated with this change. With respect to the removal of the provision regarding violations, EPA does not anticipate emissions increases associated with the removal of this requirement because the regulations will continue to require a vehicle owner present the vehicle for inspection within 30 days of notification. Further, without a passing emission certificate the vehicle cannot be registered, and without registration, the vehicle cannot legally operate on highways. Accordingly, EPA is proposing to approve the revisions to Rule 391-3-20-.06 into Georgia's SIP.

F. Rule 391-3-20-.07, “Inspection Equipment System Specification”

Rule 391-3-20-.07, “Inspection Equipment System Specification,” is being amended to add language requiring station owners to acquire a specific manufacturer's published Fuel Cap Testing Application Chart, and to clarify that inspection stations must have an appropriate GAS for their class of station. In addition, the changes to 391-3-20-.07 include language to specify that the inspection stations must have systems that have been approved by the GA EPD.

EPA has reviewed the changes and preliminarily determined that these changes will not impact emissions and are consistent with 40 CFR part 51 subpart S. These changes are SIP strengthening by updating the SIP to reflect more recent technology and providing additional clarity to the SIP. Accordingly, EPA is proposing to approve the revisions to Rule 391-3-20-.07 into Georgia's SIP.

G. Rule 391-3-20-.09, “Inspection Station Requirements”

Rule 391-3-20-.09, “Inspection Station Requirements,” is amended to remove language at 391-3-20-.09(c)(4), specifying that the Director can suspend or revoke a station's Certificate of Authorization if it fails to comply with the requirements of the mobile GAS. Additional changes identify the materials that must be provided by a public inspection station by adding language to specify that the relevant poster is the one provided at the time of station certification, and that a Q&A brochure must be provided. Changes to the requirements for station owners include edits to require a specific Emissions Repair Form (replacing the term “repair information form”), broaden the type of traction control charts each station must maintain, provide a web address for the location of the OBD DLC Location Chart, and require station owners to maintain Version 1.4 of the Emissions Inspector Certification Training Program Manual. Requirements for fleet inspection stations are revised to remove language requiring certain fleet inspection technicians to be certified in the area of advanced automotive engine diagnostic and repair. In addition, 391-3-20-.09 is amended to clarify that the sign posted at inspection stations reflects a state certified station, to clarify that the Repair Watch Public Report is issued quarterly, and to require station owners to provide an email address with their contact information. Finally, changes to paragraphs (i)(3) and (5) revise the requirements for the required type of internet connection.

EPA has reviewed the changes and has made the preliminary determination that these changes do not impact emissions and are consistent with 40 CFR part 51 subpart S. With respect to the removal of language at 391-3-1-.09(c)(4), the general provisions regarding Certificates of Authorization at 391-3-20-.10 provide that the GA EPD Director can suspend or revoke a station's Certificate of Authorization. With respect to the changes related to internet requirements and the removal of the requirement for certain fleet inspection technicians to be certified in the area of advanced automotive engine diagnostic and repair, the changes reflect current technology as the diagnostic tools now perform the required analysis, and EPA is proposing to make the determination that the changes will not impact implementation of the SIP and will not impact emissions. The remainder of the changes, including those regarding materials and internet requirements, are minor changes that will not impact the implementation of the I/M testing to be performed and thus will not impact emissions. Accordingly, EPA is proposing to approve the change to Rule 391-3-20-.09 into Georgia's SIP.

H. Rule 391-3-20-.10, “Certificates of Authorization”

Rule 391-3-20-.10, “Certificates of Authorization,” is being amended to use the acronym for Georgia Analyzer System and deleting spelling out the words. EPA has reviewed the changes and has made the preliminary determination that these minor changes do not impact emissions and are consistent with the I/M program requirements. Accordingly, EPA is proposing to approve the change to Rule 391-3-20-.10 into Georgia's SIP.

I. Rule 391-3-20-.11, “Inspector Qualifications and Certification”

Rule 391-3-20-.11, “Inspector Qualifications and Certification,” is amended to clarify that an inspector's certificate is valid for two years from the date of issuance; to state that an inspector's certificate application is due 30 days before the expiration of an existing application; and to add language that a certificate will be renewed on timely receipt of an application, if there is no cause to deny a certificate; and clarify that it is the inspector that must pass the written test. In addition, 391-3-20-.11 is revised to require emissions inspectors to pass a practical (rather than hands-on) test, and to have knowledge about conducting all parts of the inspection (replacing the words “can perform”).

EPA has reviewed the changes and has made the preliminary determination that these minor changes do not impact implementation of the SIP, do not impact emissions, and are consistent with 40 CFR part 51 subpart S. Accordingly, EPA is proposing to approve the revisions to Rule 391-3-20-.11 into Georgia's SIP.

J. Rule 391-3-20-.13, “Certificate of Emission Inspection”

Rule 391-3-20-.13, “Certificate of Emission Inspection,” is amended replace terms with standard terminology (for example “Emissions Repair Form” replaces “repair information form”), to provide the website address to obtain an Emissions Repair Form, and to clarify that the Repair Watch Public Report is issued quarterly. EPA has reviewed these minor changes and preliminarily finds that the changes are SIP strengthening by providing additional clarity to the SIP. Accordingly, EPA is proposing to approve the revisions to Rule 391-3-20-.13 into Georgia's SIP.

K. Rule 391-3-20-.15, “Repairs and Retests”

Rule 391-3-20-.15, “Repairs and Retests,” is being amended by replacing the term “repair information form” with standard terminology of “Emissions Repair Form.” EPA has reviewed this change and is preliminarily determining that it is a minor change that is SIP strengthening by providing additional clarity to the SIP. Accordingly, EPA is proposing to approve this change to Rule 391-3-20-.15 into the Georgia SIP.

L. Rule 391-3-20-.17, “Waivers”

Rule 391-3-20-.17, “Waivers,” is revised to specify the dollar amount of expenditures that must be made annually in order to qualify for a waiver from the I/M program requirements, and language is added to provide a web-address where the waiver amount will be posted. In addition, language is added to require the issuer of a waiver to visually inspect to confirm that repairs have been made.

EPA has reviewed these minor changes and preliminarily finds that the changes are SIP strengthening by providing additional clarity to the SIP, are consistent with 40 CFR part 51 subpart S, and will not impact emissions. Accordingly, EPA is proposing to approve the changes to Rule 391-3-20-.17 into Georgia's SIP.

M. Rule 391-3-20-.18, “Sale of Vehicles”

Rule 391-3-20-.18, “Sale of Vehicles,” is being amended to add that no person shall sell a vehicle without a valid passing certificate of emissions inspection if the vehicle will be registered in a covered county. In addition, language imposing criminal and civil penalties is removed.

EPA has reviewed these administrative changes and determined that do not impact emissions and are consistent with the 40 CFR part 51 subpart S. While the language imposing criminal and civil penalties is removed, a valid passing certificate of emissions inspections must be provided in order to register a vehicle for highway use. Since without an emission certificate the vehicle cannot be registered, and without registration, the vehicle cannot legally operate on highways, EPA does not anticipate emissions increases associated with the removal of the specific penalties previously listed in 391-3-20-.18.¹⁰ Accordingly, EPA is proposing to approve this change to Rule 391-3-20-.18 into the Georgia SIP.

¹⁰ Although not relied on for approval, EPA also notes that the operation on highways without a certification of registration is subject to Georgia Code Title 40 Motor Vehicle and Traffic Subsection 40-6-15, which imposes civil and criminal penalties.

N. Other Minor Changes

In addition, Georgia's March 15, 2019, SIP revision contains several minor changes to Georgia's I/M Regulation 391-3-20. For example, rule 391-3-20-.01 contains changes to numbering to reflect the addition and deletion of several definitions, as described more fully above; rule 391-3-20-.03, “Covered Vehicles: Exemptions,” contains changes for grammatical purposes and to correct capitalization; and rules 391-3-20-.01, 391-3-20-.09 and 391-3-20-.11 contain changes that replace the term “State Inspection” with “I/M” program. Also, changes are made to replace terms with acronyms. For example, multiple rules include adding the acronym “GAS” or replacing “Georgia Analyzer System” with the acronym “GAS;” and 391-3-20-.13 substitutes the acronym “EPA” for “U.S. Environmental Protection Agency.” Further, the March 15, 2019, SIP revision contains a number of changes to reflect changing technology, such as removing references to hard copy manuals, since the material is now found within the GAS program. EPA is making the preliminary determination that these minor changes will not affect implementation of the SIP and thus will not impact emissions. Therefore, EPA is proposing to approve these changes into the SIP.

IV. Incorporation by Reference

In this rule, EPA is proposing to include in a final GA EPD rule regulatory text that includes incorporation by reference. In accordance with the requirements of 1 CFR 51.5, EPA is proposing to incorporate by reference Georgia Rules 391-3-20-.04, 391-3-20-.05, 391-3-20-.07, 391-3-20-.08, 391-3-20-.10, 391-3-20-.13, 391-3-20-.15, 391-3-20-.18, and 391-3-20-.20, state effective on March 28, 2018, and Georgia Rules 391-3-20-.01, 391-3-20-.03, 391-3-20-.06, 391-3-20-.09, 391-3-20-.11, and 391-3-20-.17, state effective on February 17, 2019, within Chapter 391-3-20, titled “Enhanced inspection and Maintenance” to remove obsolete references, clarify the State's I/M requirements, and update terminology, including to reflect advances in technology. EPA has made, and will continue to make, these materials generally available through www.regulations.gov and/or at the EPA Region 4 office (please contact the person identified in the For Further Information Contact section of this preamble for more information).

V. Proposed Action

For the reasons explained above, EPA is proposing to approve Georgia's March 15, 2019, SIP revision. Specifically, EPA is proposing to approve the changes to Georgia's I/M Regulation 391-3-20 because they are consistent with the CAA and 40 CFR part 51 subpart S.

VI. Statutory and Executive Order Reviews

Under the CAA, the Administrator is required to approve a SIP submittal that complies with the provisions of the Act and applicable federal regulations. See 42 U.S.C. 7410(k); 40 CFR 52.02(a). Thus, in reviewing SIP submissions, EPA's role is to approve state choices, if they meet the criteria of the CAA. Accordingly, this proposed action merely proposes to approve state law as meeting Federal requirements and does not propose to impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, October 7, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications as specified by Executive Order 13175 (65 FR 67249, November 9, 2000) nor will it impose substantial direct costs on tribal governments or preempt tribal law.

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Mary Walker,
Regional Administrator, Region 4.

[FR Doc. 2020-09242 Filed 5-13-20; 8:45 am]

BILLING CODE 6560-50-P